DEPARTMENT OF LABOR

Employment and Training Administration

[TA-W-50,196]

The Rockford Company, Rockford Illinois; Notice of Termination of Investigation

Pursuant to section 221 of the Trade Act of 1974, an investigation was initiated on November 26, 2002, in response to a worker petition filed by a company official on behalf of workers at The Rockford Company, Rockford, Illinois.

The petitioner has requested that the petition be withdrawn. Consequently, further investigation in this case would serve no purpose, and the investigation has been terminated.

Signed in Washington, DC this 13th day of December, 2002.
Richard Church,
Certifying Officer, Division of Trade Adjustment Assistance.

[FR Doc. 03-407 Filed 1-8-03; 8:45 am]

BILLING CODE 4510-30-P